DEPARTMENT OF VETERANS AFFAIRS

38 CFR Part 3

RIN 2900-AN46

Notice of Information and Evidence Necessary To Substantiate Claim

AGENCY: Department of Veterans Affairs.

ACTION: Withdrawal of proposed rule.

SUMMARY: In a document published in the Federal Register on December 11, 2009, the Department of Veterans Affairs (VA) proposed to amend its regulations regarding VA's duty to notify a claimant of the information and evidence necessary to substantiate a claim. This document withdraws that proposed rule.

DATES: The proposed rule is withdrawn as of April 27, 2012.

FOR FURTHER INFORMATION CONTACT: Sarah W. Fusina, Legal Consultant, Regulations Staff (211D), Compensation and Pension Service, Veterans Benefits Administration, Department of Veterans Affairs, 810 Vermont Ave. NW., Washington, DC 20420, (202) 461-9700. (This is not a toll-free number.)

SUPPLEMENTARY INFORMATION: On December 11, 2009, VA published a proposed rule in the Federal Register (74 FR 65702), notifying the public of VA's intent to amend its regulations regarding its duty to notify a claimant of information and evidence necessary to substantiate a claim. The purpose was to implement the Veterans' Benefits Improvement Act of 2008, which required the promulgation of regulations prescribing the requirements relating to the content of notice to be provided under 38 U.S.C. 5103(a). Public Law 110-389, 122 Stat. 4145, 4147. VA received several comments raising concerns with the proposed rule, including concerns relating to the establishment of effective dates, the clarity of what types of evidence are accepted, the specificity of the contents for notice, and the general clarity and consistency of the text of the proposed rule. Based on consideration of comments received on the proposed rule and further evaluation of available options, VA intends to propose revised rules warranting a new notice of proposed rulemaking and public-comment period. Thus, VA is withdrawing the proposed rule.

Approved: April 19, 2012.
John R. Gingrich,
Chief of Staff, Department of Veterans Affairs.

[FR Doc. 2012-10259 Filed 4-26-12; 8:45 am]

BILLING CODE P